DEPARTMENT OF AGRICULTURE

Forest Service

Missoula Resource Advisory Committee

AGENCY: Forest Service, USDA.

ACTION: Notice of meeting.

SUMMARY: The Missoula Resource Advisory Committee (RAC) will meet in Frenchtown, Montana. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to distribute submitted proposals to RAC members, allow the opportunity for project proponents to present their proposals, and receive public comment on the meeting subjects and proceedings. We will also hold a voting meeting at a later date, to be determined, at the same location. The voting meeting information will be released to the public in a published news release and posted on the following Web site: http://www.fs.usda.gov/main/lolo/workingtogether/advisorycommittees.

DATES: The presentation meeting will be held on Wednesday, June 15, 2016 from 6:00 p.m. to 8:00 p.m.

All RAC meetings are subject to cancellation. For status of meeting prior to attendance, please contact the person listed under FOR FURTHER INFORMATION CONTACT.

ADDRESSES: The meeting will be held at Frenchtown Rural Fire District Station 1, 16875 Marion Street, Frenchtown, Montana.

Written comments may be submitted as described under SUPPLEMENTARY INFORMATION. All comments, including names and addresses when provided, are placed in the record and are available for public inspection and copying. The public may inspect comments received at Ninemile Ranger District.

FOR FURTHER INFORMATION CONTACT: Sari Lehl, RAC Coordinator, by phone at 406-626-5201, or via email at slehl@fs.fed.us.

Individuals who use telecommunication devices for the deaf (TDD) may call the Federal Information Relay Service (FIRS) at 1-800-877-8339 between 8:00 a.m. and 8:00 p.m., Eastern Standard Time, Monday through Friday. If you are a person requiring reasonable accommodation, please make requests in advance for sign language interpreting, assistive listening devices or other reasonable accommodation for access to the facility or procedings by contacting the person listed above. All reasonable accommodation requests are managed on a case by case basis.

SUPPLEMENTARY INFORMATION: Additional RAC information, including the meeting agenda and the meeting summary/minutes can be found at the following Web site: http://www.fs.usda.gov/main/lolo/workingtogether/advisorycommittees. The agenda will include time for people to make oral statements of three minutes or less. Anyone who would like to bring related matters to the attention of the committee may file written statements with the committee staff before or after the meeting. Written comments must be sent to Sari Lehl; Lolo National Forest, Ninemile Ranger District, 20325 Remount Road, Huson, Montana 59846; or by email: slehl@fs.fed.us.

Dated: May 19, 2016.
Erin M. Phelps,
Ninemile District Ranger.

[FR Doc. 2016-12572 Filed 5-26-16; 8:45 am]

BILLING CODE 3411-15-P